CORPORATION FOR NATIONAL AND COMMUNITY SERVICE

Proposed Information Collection Renewal; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed revision of its Peer Reviewer Application (OMB Number 3045-0090). Copies of the forms can be obtained by contacting the office listed below in the ADDRESSES section of this notice.

DATES: Written comments must be submitted to the individual and office listed in the ADDRESSES section by April 2, 2007.

ADDRESSES: You may submit comments, identified by the title of the information collection activity, to the Corporation by any of the following methods:

(1) Electronically through the Corporation's e-mail address system to: Vielka Garibaldi at vgaribaldi@cns.gov.

(2) By fax to 202-606-3477, Attention: Vielka Garibaldi.

(3) By mail sent to: Corporation for National and Community Service, Office of Grant Policy and Operations, 9th Floor, Attn: Vielka Garibaldi, Associate Director for Grant Review Operations, Room 9807; 1201 New York Avenue NW., Washington, DC 20525.

(4) By hand delivery or by courier to the Corporation's mailroom at 1225 New York Avenue, 8th Floor (Suite 8100) at the mail address given in paragraph (3) above, between 9 a.m. and 4 p.m. Monday through Friday, except Federal holidays.

ADDRESSES: Send comments to Vielka Garibaldi, Corporation for National and Community Service, 1201 New York Ave., NW., Washington, DC 20525.

FOR FURTHER INFORMATION CONTACT: Vielka Garibaldi, (202) 606-6886, or by e-mail at vgaribaldi@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

Background

The Corporation for National and Community Service (the Corporation) connects Americans of all ages and backgrounds with opportunities to give back to their communities and country through three programs: AmeriCorps, Learn and Serve America, and Senior Corps. The Corporation provides grants to support people and organizations that use service as a strategy for addressing national and community needs. As part of its review process the Corporation uses peer reviewers to determine the quality of the grant applications we receive. The peer reviewer application forms are used by individuals wishing to serve as peer reviewers or peer review panel facilitators for the Corporation grant review processes. The information collected will be used by the Corporation to select peer reviewers for each grant competition. All individuals interested in applying as peer reviewers or facilitators of the peer review panels will be required to complete an electronic application using eGrants, the Corporation's Web-based grant management system.

Current Action

The Corporation seeks to renew and revise the current peer reviewer application form. When revised, the application will revise/clarify eGrants instructions to reflect adjustments to the Corporation for National and Community Service's web-based system for grant management. The application will otherwise be used in the same manner as the existing application. The Corporation also seeks to continue using the current application until the revised application is approved by OMB. The current application is due to expired on October 31, 2007. Modifications include instructions related to log-in into e-Grants and enhancements to the personal profile, contact information section, and areas or expertise.

Type of Review: Renewal.

Agency: Corporation for National and Community Service.

Title: Peer Reviewer Application.

OMB Number: 3045-0090.

Agency Number: None.

Affected Public: Individuals who are interested in serving as a peer reviewer or peer review panel facilitator.

Total Respondents: 2,500 responses annually.

Frequency: One time to complete and update as needed.

Average Time Per Response: Total of 40 minutes.

Estimated Total Burden Hours: 1,666 hours.

Total Burden Cost (capital/startup): None.

Total Burden Cost (operating/maintenance): None.

Comments submitted in response to this notice will be summarized and/or included in the request for Office of Management and Budget approval of the information collection request; they will also become a matter of public record.

Dated: January 26, 2007.
Marlene Zakai,
Director, Office of Grants Policy and Operation.

[FR Doc. E7-1578 Filed 1-31-07; 8:45 am]

BILLING CODE 6050-$$-P